DEPARTMENT OF TRANSPORTATION

Federal Aviation Administration

Notice of Intent To Rule on a Release Request for a Change in Designation of On-Airport Surplus Property From Aeronautical to Non-Aeronautical Use at the Harrisburg International Airport (MDT), Middletown, PA

AGENCY: Federal Aviation Administration (FAA) DOT.

ACTION: Notice release request for a change in designation of on-airport surplus property from aeronautical to non-aeronautical use.

SUMMARY: The Federal Aviation Administration (FAA) is requesting public comment on the Susquehanna Area Regional Airport Authority's (SARAA) request to change 11.398 acres of airport property from aeronautical use to non-aeronautical use. The acreage in question is subject to the Provisions of the Federal Property and Administrative Services Act of 1949, and the Surplus Property Act of 1944 as amended. In accordance with 49 U.S.C. 47151(d), 47153(c), and 47107(h), this notice is required to be published in the Federal Register for 30 days before waiving the condition that such land be used for aeronautical purposes. The purpose of the release request is to enable SARAA to generate revenue from this property by taking action including, but not limited to, entering into a long-term lease with Shaner Hotel Holdings for the purpose of constructing and operating a four (4) story hotel consisting of 120 guest rooms, a meeting center and restaurant.

DATES: Comments must be received on or before June 10, 2016.

ADDRESSES: Documents are available for review at the Susquehanna Area Regional Airport Authority Office located at the Harrisburg International Airport.

Timothy Edwards, Executive Director, Harrisburg International Airport, Susquehanna Area Regional Airport Authority, One Terminal Drive, Suite 300, Middletown, PA 17057, 717-948-3900.

and at the FAA Harrisburg Airports District Office:

Oscar D. Sanchez, Program Manager, Harrisburg Airports District Office, 3905 Hartzdale Dr., Suite 508, Camp Hill, PA 17011, (717) 730-2834.

FOR FURTHER INFORMATION CONTACT: Oscar D. Sanchez, Program Manager, Harrisburg Airports District Office (location listed above). The documents reflecting the Sponsor's request are available, by appointment only, for inspection at the Harrisburg International Airport, Executive Director's Office.

SUPPLEMENTARY INFORMATION: The following is a brief overview of the request:

This action will allow the re-designation of the 11.398 acres as land available for non-aeronautical use on the Airport Layout Plan (ALP). The purpose of the release request is that SARAA has determined that it is in its best interest to encourage development under long-term leases of land not needed for airport development on the approved ALP to increase airport revenues. Consistent with this purpose, this release request will enable SARAA to enter into a long-term lease agreement with Shaner Hotel Holdings for the purpose of constructing and operating a four (4) story hotel consisting of 120 guest rooms, a meeting center and restaurant. The hotel will encompass 2.73 acres of the 11.398-acre site. The remaining acres will be available for future long-term lease agreements for commercial retail development. There is to be no sale or transfer of property rights in connection with this Airport Layout Plan change. Proceeds from the lease of this property will be utilized in accordance with FAA's Policy and Procedures Concerning the Use of Airport Revenue, published in the Federal Register on February 16, 1999.

MDT, including the 11.398 acres that are the subject of this release request, was the former Olmsted Air Force Base. On June 20, 1967, under the provisions of the Federal Property and Administrative Services Act of 1949, and the Surplus Property Act of 1944, as amended, the Air Force ceded Olmsted Air Force Base to the Commonwealth of Pennsylvania for the purpose that it be utilized as an airport. This land was conveyed to SARAA by the Commonwealth of Pennsylvania through its Department of Transportation by a deed dated 01/02/1998 and recorded in Dauphin County, Pennsylvania book 3008, page 425. On December 8, 2015, the Department of Defense concurred with the decision to release the National Emergency Use Provision on the 11.398 acres.

The 11.398 acres is located on the landside of the airport in a central area in close proximity to the parking garage, terminal building, and long-term parking within the Terminal Drive loop. To the north, the area is bordered by Airport Drive, Amtrak Railroad, and Route 230. To the south of the area lies the snow removal equipment building and a passenger cell phone lot. West of the area is a paved employee parking lot. The parcel is further identified as Dauphin County identification Parcel 36-024-001. The property is currently depicted on the approved ALP on record as airport property and consists of asphalt pavement that is currently used as a nonrevenue producing employee vehicle parking lot. MDT has sufficient parking space available to replace the employee parking lot. This parcel is not needed for future aeronautical development as shown on the airport's ALP.

Any person may inspect the request by appointment at the FAA office address listed above. Interested persons are invited to comment. All comments will be considered by the FAA to the extent practicable.

Issued in Camp Hill, Pennsylvania, May 4, 2016.
Lori K. Pagnanelli,
Manager, Harrisburg Airports District Office.

[FR Doc. 2016-11117 Filed 5-10-16; 8:45 am]

BILLING CODE 4910-13-P